DEPARTMENT OF ENERGY

Federal Energy Regulatory Commission

[Project No. 203-031 and 11832-000]

Portland General Electric Company and the Confederated Tribes of the Warm Springs Reservation of Oregon; Notice of Meeting

March 16, 2000.

At the request of Portland General Electric Company and the Confederated Tribes of the Warm Springs Reservation of Oregon, the Commission's staff will hold a meeting on April 4, 2000, at 3:00 p.m. in room 62-26, 888 First Street NE, Washington, DC. The purpose of the meeting is to discuss issues arising from the pending Global Settlement between PGE and the Tribes to resolve the competitive proceeding.

Other interested parties wishing to attend and participate in the meeting are welcome. Questions on the meeting should be directed to Héctor M. Pérez on (202) 219-2843, hector.perez@ferc.fed.us.

David P. Boergers,
Secretary.

[FR Doc. 00-7024 Filed 3-21-00; 8:45 am]

BILLING CODE 6717-01-M